U.S.-CHINA ECONOMIC AND SECURITY REVIEW COMMISSION

Open Public Hearing

AGENCY: U.S.-China Economic and Security Review Commission.

ACTION: Notice of open public hearing—September 10, 2009, Washington, DC.

SUMMARY: Notice is hereby given of the following hearing of the U.S.-China Economic and Security Review Commission.

Name: Carolyn Bartholomew, Chairman of the U.S.-China Economic and Security Review Commission.

The Commission is mandated by Congress to investigate, assess, and report to Congress annually on “the national security implications of the economic relationship between the United States and the People's Republic of China.”

Pursuant to this mandate, the Commission will hold a public hearing in Washington, DC on September 10, 2009 to address “China's Media and Information Controls—The Impact in China and the United States.”

Background

This event is the eighth and final public hearing the Commission will hold during its 2009 report cycle to collect input from leading academic, industry, and government experts on national security implications of the U.S. bilateral trade and economic relationship with China. The September 10 hearing will examine Chinese propaganda narratives and information censorship surrounding “sensitive” news stories in 2008 and 2009, Chinese government information control policies in 2008 and 2009, and developments involving China's Internet control regime and Internet activism.

The September 10 hearing will be Co-chaired by Chairman Carolyn Bartholomew and Commissioner Daniel Blumenthal.

Information on hearings, as well as transcripts of past Commission hearings, can be obtained from the USCC Web site http://www.uscc.gov.

Copies of the hearing agenda will be made available on the Commission's Web site http://www.uscc.gov as soon as available. Any interested party may file a written statement by September 10, 2009, by mailing to the contact below. On September 10, the hearing will be held in one session, beginning in the morning and running until the early afternoon. A portion of each panel will include a question and answer period between the Commissioners and the witnesses.

Date and Time: Thursday, September 10, 2009, 8:15 a.m. to 12:45 p.m. Eastern Daylight Savings Time. A detailed agenda for the hearing will be posted to the Commission's Web site at http://www.uscc.gov in the near future.

ADDRESSES: The hearing will be held on Capitol Hill in Room 562 of the Dirksen Senate Office Building located at First Street and Constitution Avenues, NE., Washington, DC 20510. Public seating is limited to about 50 people on a first come, first served basis. Advance reservations are not required.

FOR FURTHER INFORMATION CONTACT: Any member of the public wishing further information concerning the hearing should contact Kathy Michels, Associate Director for the U.S.-China Economic and Security Review Commission, 444 North Capitol Street, NW., Suite 602, Washington, DC 20001; phone: 202-624-1409, or via e-mail at kmichels@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: August 12, 2009.
Kathleen J. Michels,
Associate Director, U.S.-China Economic and Security Review Commission.

[FR Doc. E9-19747 Filed 8-17-09; 8:45 am]

BILLING CODE 1137-00-P